DEPARTMENT OF ENERGY

Federal Energy Regulatory Commission

[Project No. 2237-013]

Georgia Power Company; Notice of Dispute Resolution Panel Meeting and Technical Conference

January 6, 2005.

On January 5, 2005, Commission staff, in response to the filing of a notice of study dispute by the U.S. Department of the Interior on December 17, 2004, convened a three-person Dispute Resolution Panel pursuant to 18 CFR 5.14(d).

The Panel will hold a technical conference at the time and place noted below. All interested individuals, organizations, and agencies are invited to attend the technical conference. The Panel will provide an opportunity to hear from the disputing agency, potential applicant, and other participants who have an interest in the outcome of the dispute. The Panel may also request information or clarification on written submissions as necessary to understand the matters in dispute. The Panel will limit all input that it receives to the specific studies or information in dispute and will focus on the applicability of such studies or information to the study criteria stipulated in 18 CFR 5.9(b). If the number of participants wishing to speak creates time constraints, the Panel may, at its discretion, limit the speaking time for each participant. A court reporter will be present to provide a written record of the technical conference.

Technical Conference

Date: Wednesday, January 19, 2005.

Time: 9 a.m.-5 p.m. (c.s.t.).

Place: Chattahoochee Nature Center, 9135 Willeo Road, Roswell, Georgia, 30075, phone: (770) 992-2055.

Magalie R. Salas,
Secretary.

[FR Doc. E5-102 Filed 1-11-05; 8:45 am]

BILLING CODE 6717-01-P